ENVIRONMENTAL PROTECTION AGENCY

[EPA-HQ-OPP-2023-0075; FRL-11150-01-OCSPP]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before October 2, 2023.

ADDRESSES: Submit your comments, identified by docket identification (ID) number EPA-HQ-OPP-2023-0075, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

II. What action is the Agency taking?

This notice announces receipt by the Agency of requests from registrants to cancel certain pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests For Cancellation
Registration No. | Company No. | Product name | Active ingredients
100-1305 | 100 | Cruiser Maxx Cereals | Difenoconazole (128847/119446-68-3)—(3.36%), Metalaxyl-M (113502/70630-17-0)—(.56%), Thiamethoxam (060109/153719-23-4)—(2.8%).
100-1422 | 100 | A16901B Ornamental Insecticide | Cyantraniliprole (090098/736994-63-1)—(20%), Thiamethoxam (060109/153719-23-4)—(20%).
100-1544 | 100 | HGW86 T&O Insect Control | Cyantraniliprole (090098/736994-63-1)—(18.66%).
100-1552 | 100 | Mainspring | Cyantraniliprole (090098/736994-63-1)—(18.66%).
100-1574 | 100 | Mainspring Flora GH | Cyantraniliprole (090098/736994-63-1)—(10%), Pymetrozine (101103/123312-89-0)—(30%).
264-998 | 264 | Four Way Peanut Seed Treatment Fungicide | Captan (081301/133-06-2)—(49%), Metalaxyl (113501/57837-19-1)—(.8%), Thiophanate-methyl (102001/23564-05-8)—(13.6%), Trifloxystrobin (129112/141517-21-7)—(2%).
56228-33 | 56228 | Mesurol 75% Wettable Powder Aversive Conditioning Egg Treatment | Methiocarb (100501/2032-65-7)—(75%).
AR-130004 | 69969 | Avipel (Dry) Corn Seed Treatment | Anthraquinone (122701/84-65-1)—(50%).
OR-160005 | 61842 | Linex 4L Herbicide | Linuron (035506/330-55-2)—(40.6%).
TN-090006 | 264 | Gaucho XT Flowable | Imidacloprid (129099/138261-41-3)—(12.7%), Metalaxyl (113501/57837-19-1)—(.82%), Tebuconazole (128997/107534-96-3)—(.62%).
WA-030035 | 62719 | Stinger | Clopyralid, monoethanolamine salt (117401/57754-85-5)—(40.9%).
WA-120008 | 62719 | Entrust SC | Spinosad (110003/131929-60-7)—(22.5%).
WA-970033 | 62719 | Stinger | Clopyralid, monoethanolamine salt (117401/57754-85-5)—(40.9%).

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419-8300.
264 | Bayer CropScience, LP, Agent Name: Bayer CropScience, LLC, 801 Pennsylvania Avenue, Suite 900, Washington, DC 20004.
56228 | U.S. Department of Agriculture, Animal and Plant Health Inspection Service, 4700 River Road, Unit 149, Riverdale, MD 20737.
61842 | Tessenderlo Kerley, Inc., Agent Name: Pyxis Regulatory Consulting, Inc., 4110 136th Street, Ct. NW, Gig Harbor, WA 98332.
62719 | Corteva Agriscience, LLC, 9330 Zionsville Road, Indianapolis, IN 46268.
69969 | Arkion Life Sciences, LLC, Agent Name: Wagner Regulatory Associates, Inc., P.O. Box: 640, Hockessin, DE 19707.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II, have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II, EPA anticipates allowing registrants to sell and distribute existing stocks of these products for 1 year after publication of the Cancellation Order in the Federal Register.

Thereafter, registrants will be prohibited from selling or distributing the pesticides identified in Table 1 of Unit II, except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: August 24, 2023.
Charles Smith,
Director, Registration Division, Office of Pesticide Programs.

[FR Doc. 2023-18814 Filed 8-30-23; 8:45 am]

BILLING CODE 6560-50-P